DEPARTMENT OF THE INTERIOR

Office of the Secretary

[24XD4523WS/DWSN00000.000000/DS61500000/DP.61501]

Notice of Public Meeting of the Invasive Species Advisory Committee

AGENCY: National Invasive Species Council, Interior.

ACTION: Notice of public meeting.

SUMMARY: Pursuant to the provisions of the Federal Advisory Committee Act, notice is hereby given that a public meeting of the Invasive Species Advisory Committee (ISAC) will occur as indicated below.

DATES: The Invasive Species Advisory Committee will convene by Zoom virtual platform on Friday, July 25, 2025, 2:00 p.m.-6:00 p.m. EDT.

ADDRESSES: Zoom URL and dial-in information will be provided via email to registered participants at least 48 hours in advance of the meeting.

FOR FURTHER INFORMATION CONTACT: For information concerning attending the ISAC meeting, submitting written comments to the ISAC, or requesting to address the ISAC, contact Kelsey Brantley, NISC Operations Director and ISAC Coordinator, National Invasive Species Council Staff, telephone: (202) 577-7012; fax: (202) 208-4118, or email: kelsey_brantley@ios.doi.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of the ISAC is to provide advice to the National Invasive Species Council (NISC), as authorized by Executive Orders 13112 and 13751, on a broad array of issues related to preventing the introduction of invasive species and providing for their control and minimizing the economic, ecological, and human health impacts that invasive species cause. NISC is co-chaired by the Secretary of the Interior, the Secretary of Agriculture, and the Secretary of Commerce. The duty of NISC is to provide national leadership regarding invasive species issues. The purpose of the virtual meeting on Friday, July 25, 2025, is to convene the full ISAC to review the status of ongoing ISAC subcommittee work.

Meeting Agenda: The meeting agenda will consist of updates and discussion on ISAC subcommittee deliberations to date related to food security and invasive species, as well as marine biosecurity and invasive species. A public comment period will also be included.

The final agenda, records, and other reference documents for discussion during the meeting will be available for public viewing as they become available, but no later than 48 hours before the start of the meeting at https://www.invasivespecies.gov.

Meeting Registration: Due to the limited number of connections available, individuals must register by Thursday, July 24, 2025; 3:00 p.m. EDT at: https://forms.office.com/g/K4YPU9GvPR.

Interested members of the public may provide either oral or written comments to ISAC for consideration. Oral comments may be given during designated times as specified in the meeting agenda. Written comments must be submitted by email to Kelsey Brantley at kelsey_brantley@ios.doi.gov, no later than Thursday, July 24, 2025, 3:00 p.m. (EDT). All written comments will be provided to members of the ISAC. Due to time constraints during the virtual meeting, written public statements will be submitted directly into the record.

Depending on the number of people interested in giving comments during the designated timeframe, the time allotted for each person may be limited. Requests to address the ISAC during the meeting will be accommodated in the order they are received. Individuals who wish to expand upon their oral statements, or those who wanted to speak but could not be accommodated on the agenda, may submit written comments to Kelsey Brantley at kelsey_brantley@ios.doi.gov, up to 30 days following the meeting.

All comments will be made part of the public record and will be electronically distributed to all ISAC members through the detailed meeting minutes, which will be available for public inspection within 90 days of the meeting at https://www.invasivespecies.gov.

Meeting Accessibility/Special Accommodations: The meeting is open to the public. Registration is required (see Meeting Registration above). Please make requests in advance for sign language interpreter services, assistive listening devices, or other reasonable accommodations. We ask that you contact Kelsey Brantley at kelsey_brantley@ios.doi.gov, at least seven (7) business days before the meeting to give the Department of the Interior sufficient time to process your request. All reasonable accommodation requests are managed on a case-by-case basis.

Public Disclosure of Comments: Before including your address, phone number, email address, or other personal identifying information in your written comments, you should be aware that your entire comment, including your personal identifying information, will be made publicly available. While you can request in your comment to withhold your personal identifying information from public review, we cannot guarantee that we will be able to do so.

(Authority: 5 U.S.C. Ch. 10)

Stanley W. Burgiel,
Executive Director, National Invasive Species Council.

[FR Doc. 2025-12725 Filed 7-8-25; 8:45 am]

BILLING CODE 4334-63-P